DEPARTMENT OF HEALTH AND HUMAN SERVICES

National Institutes of Health

Submission for OMB Review; 30-Day Comment Request; Evaluation of National Institutes of Health International Bilateral Programs (FIC, NCI, NIAAA, NIAID, NICHD, NIDA, NINDS, NIMH, OAR)

SUMMARY: Under the provisions of Section 3507(a)(1)(D) of the Paperwork Reduction Act of 1995, the National Institutes of Health (NIH), has submitted to the Office of Management and Budget (OMB) a request for review and approval of the information collection listed below. This proposed information collection was previously published in the Federal Register on March 13, 2014 (Vol. 79, P. 14256) and allowed 60-days for public comment. No public comments were received. The purpose of this notice is to allow an additional 30 days for public comment. The National Cancer Institute (NCI), National Institutes of Health, may not conduct or sponsor, and the respondent is not required to respond to, an information collection that has been extended, revised, or implemented on or after October 1, 1995, unless it displays a currently valid OMB control number.

Direct Comments to OMB: Written comments and/or suggestions regarding the item(s) contained in this notice, especially regarding the estimated public burden and associated response time, should be directed to the: Office of Management and Budget, Office of Regulatory Affairs, OIRA_submission@omb.eop.gov or by fax to 202-395-6974, Attention: NIH Desk Officer.

DATES: Comment Due Date: Comments regarding this information collection are best assured of having their full effect if received within 30-days of the date of this publication.

FOR FURTHER INFORMATION CONTACT: To obtain a copy of the data collection plans and instruments or request more information on the proposed project contact: Margaret Mary Bertram, Center for Global Health, National Cancer Institute, 9609 Medical Center Dr., Rm 3W264, Rockville MD, 20850 or call non-toll-free number 240-276-5656 or Email your request, including your address to: margaret.bertram@nih.gov. Formal requests for additional plans and instruments must be requested in writing.

Proposed Collection: Evaluation of National Institutes of Health International Bilateral Programs (FIC, NCI, NIAAA, NIAID, NICHD, NIDA, NINDS, NIMH, OAR), 0925-NEW, National Cancer Institute (NCI), National Institutes of Health (NIH).

Need and Use of Information Collection: This submission is a request for OMB to approve the Evaluation of National Institutes of Health (NIH) International Bilateral Programs for three years. The bilateral awards are made through the Funding Opportunity Announcement mechanism and administrative supplements, meaning they are funded by set-aside funds that are separate from the general pool of research program grant funds used to support investigator initiated research at NIH. The bilateral programs to be evaluated are the U.S.-China Program for Biomedical Research Cooperation, U.S.-India Bilateral Collaborative Research Partnerships on the Prevention of HIV/AIDS and Co-morbidities, U.S.-Russia Bilateral Collaborative Research Partnerships on the Prevention and Treatment of HIV/AIDS and Co-morbidities, and U.S.-South Africa Program for Collaborative Biomedical Research. These programs are funded and administered by various combinations of the following institutes: Fogarty International Center (FIC), the Eunice Kennedy Shriver National Institute of Child Health and Human Development (NICHD), National Cancer Institute (NCI), National Institute on Alcohol Abuse and Alcoholism (NIAAA), National Institute for Allergy and Infectious Diseases (NIAID), National Institute on Drug Abuse (NIDA), National Institute of Mental Health (NIMH), National Institute of Neurological Disorders and Stroke (NINDS), and the Office of AIDS Research (OAR). While these programs differ, their underlying concept is the same; they require U.S. scientists to collaborate with scientists from other countries in order to conduct scientifically meritorious investigations of mutual interest to both countries. The proposed evaluation requests information about (1) accomplishments of the awards, (2) unique findings or opportunities due to the international collaborations, and (3) successes and challenges of these collaborations. The information will be collected one year into the award and at the end of the award, when possible. This information is needed to evaluate the effectiveness of these programs across NIH.

OMB approval is requested for 3 years. There are no costs to respondents other than their time. The total estimated annualized burden hours are 129.

Estimated Annualized Burden Hours
Type of respondents | Forms | Number of respondents | Number of responses per respondent | Average burden per response (in hours) | Total annual burden hours
Principal Investigators | Administrative Supplements | 24 | 1 | 1 | 24
| Year 1 Survey | 52 | 1 | 1 | 52
| Final Year Survey | 52 | 1 | 1 | 52
| Telephone Script for Non-Responders | 16 | 1 | 3/60 | 1

Dated: October 6, 2014.
Karla Bailey,
NCI Project Clearance Liaison, National Institutes of Health.

[FR Doc. 2014-24437 Filed 10-10-14; 8:45 am]

BILLING CODE 4140-01-P